DEPARTMENT OF COMMERCE

International Trade Administration

[A-549-502]

Certain Welded Carbon Steel Pipes and Tubes from Thailand: Final Results of Antidumping Duty Administrative Review

AGENCY: Import Administration, International Trade Administration, Department of Commerce.

SUMMARY: On April 8, 2004, the Department of Commerce (“the Department”) published in the Federal Register the preliminary results of its administrative review of the antidumping duty order on certain welded carbon steel pipes and tubes from Thailand (69 FR 18539). This review covers Saha Thai Steel Pipe Company, Ltd. (“Saha Thai”), a manufacturer/exporter of the subject merchandise. The period of review (POR) is March 1, 2002, through February 28, 2003.

Based on our analysis of the comments received, the final results differ from the preliminary results of review. The final weighted-average dumping margin for the reviewed firm is listed below in the section entitled “Final Results of the Review.”

EFFECTIVE DATE: October 20, 2004.

FOR FURTHER INFORMATION CONTACT: Javier Barrientos or Mark Hoadley, Import Administration, International Trade Administration, U.S. Department of Commerce, Washington, DC 20230; telephone: (202) 482-2243 and (202) 482-3148, respectively.

SUPPLEMENTARY INFORMATION:

Background

On April 8, 2004, the Department published its preliminary results in this administrative review. See Certain Welded Carbon Steel Pipes and Tubes From Thailand: Preliminary Results of Antidumping Duty Administrative Review, 69 FR 18539 (April 8, 2004). On April 27, 2004, we issued Saha Thai's sales verification report. See Memorandum to the File, from Javier Barrientos, AD/CVD Financial Analyst, and Jaqueline Arrowsmith, Case Analyst, through Sally Gannon, Program Manager; Verification of Questionnaire Responses submitted by Saha Thai Steel Pipe Company, Ltd. (“Saha Thai”), April 27, 2004. We invited parties to comment on the preliminary results. The petitioners, Allied Tube & Conduit Corporation and Wheatland Tube Co., and Saha Thai submitted timely case briefs on May 24, 2004. Timely rebuttal briefs from both parties were submitted on June 2, 2004. Pursuant to section 751(a)(3)(A) of the Tariff Act of 1930, as amended by the Uruguay Round Agreements Act (hereinafter, “the Act”), the Department extended the final results of review to October 5, 2004. See Certain Welded Carbon Steel Pipes and Tubes from Thailand: Notice of Extension of Time Limit for Final Results of Antidumping Duty Administrative Review, 69 FR 48454.

(August 10, 2004).

The Department has conducted this administrative review in accordance with section 751 of the Act, as amended.

Scope of the Antidumping Order

The products covered by this antidumping order are certain welded carbon steel pipes and tubes from Thailand. The subject merchandise has an outside diameter of 0.375 inches or more, but not exceeding 16 inches. These products, which are commonly referred to in the industry as “standard pipe” or “structural tubing,” are hereinafter designated as “pipe and tube.” The merchandise is classifiable under the Harmonized Tariff Schedule of the United States (HTSUS) item numbers 7306.30.1000, 7306.30.5025, 7306.30.5032, 7306.30.5040, 7306.30.5055, 7306.30.5085, and 7306.30.5090. Although the HTSUS subheadings are provided for convenience and purposes of U.S. Customs and Border Protection (CBP), our written description of the scope of the order is dispositive.

Analysis of Comments Received

All issues raised in the case and rebuttal briefs by parties to this administrative review are addressed in the Issues and Decision Memorandum from Jeffrey A. May, Deputy Assistant Secretary for Import Administration, to James J. Jochum, Assistant Secretary for Import Administration, dated October 5, 2004 (“Decision Memorandum”), which is hereby adopted by this notice. A list of the issues which the parties have raised and to which we have responded, all of which are in the Decision Memorandum, is attached to this notice as an appendix. Parties can find a complete discussion of all issues raised in this review and the corresponding recommendations in this memorandum, which is on file in the Central Records Unit, Room B-099, of the main Commerce Department building. In addition, a complete version of the Decision Memorandum can be accessed directly on the Web at http://ia.ita.doc.gov/frn/index.html. The paper copy and electronic version of the Decision Memorandum are identical in content.

Changes Since the Preliminary Results

Based on our analysis of comments received and of the database calculations, we have changed our calculations for the final results of review. For the final results of review, billing adjustments have been added to U.S. price to reflect the decision the Department has reached for the final results. In addition, we made minor corrections to the margin program. These changes are discussed in the relevant sections of the Decision Memorandum (at Comment 2) and Memorandum to the File from Javier Barrientos, AD/CVD Financial Analyst, through Mark E. Hoadley, Acting Program Manager: Analysis of Saha Thai Steel Pipe Co., Ltd. for the Final Results, dated October 5, 2004.

Final Results of Review

We determine that the following weighted-average percentage margin exists for the period March 1, 2002, through February 28, 2003:

Manufacturer/exporter | Margin
Saha Thai Steel Pipe Company, Ltd. | 0.17%

Cash Deposit Requirements

The following deposit requirements will be effective upon publication of the final results of this administrative review for all shipments of the subject merchandise entered, or withdrawn from warehouse, for consumption, as provided in section 751(a)(1) of the Act: 1) the cash deposit rate for Saha Thai will be zero as its margin for the final result is de minimis; 2) for previously reviewed or investigated companies not covered in this review, the cash deposit rate will continue to be the company-specific rate published for the most recent period; 3) if the exporter is not a firm covered in this review, a prior review, or the original less than fair value (LTFV) investigation conducted by the Department, the cash deposit rate will be the rate established for the most recent period for the manufacturer of the merchandise; 4) if neither the exporter nor the manufacturer is a firm covered in this or any previous proceeding conducted by the Department, the cash deposit rate will continue to be the “all others” rate established in the LTFV investigation, which is 15.67 percent. These cash deposit requirements, when imposed, shall remain in effect until publication of the final results of the next administrative review.

Duty Assessment

Upon publication of the final results of this review, the Department shall determine, and CBP shall assess, antidumping duties on all appropriate entries. The Department will issue appraisement instructions directly to CBP within fifteen days of publication of the final results of review. The final results of this review shall be the basis for the assessment of antidumping duties on entries of merchandise covered by the results and for future deposits of estimated duties. For duty assessment purposes, we calculate an importer-specific assessment rate by dividing the total dumping margins calculated for the U.S. sales of each importer by the respective total entered value of these sales. This importer-specific assessment rate will be used for the assessment of antidumping duties on all entries of the subject merchandise by that importer during the POR.

The Department clarified its “automatic assessment” regulation on May 6, 2003. This clarification will apply to entries of subject merchandise during the period of review produced by companies included in the final results of this review for which the reviewed companies did not know their merchandise was destined for the United States. In such instances, we will instruct CBP to liquidate unreviewed entries at the “all others” rate if there is no rate for the intermediate company(ies) involved in the transaction. For a full discussion of this clarification, see Notice of Policy Concerning Assessment of Antidumping Duties, 68 FR 23954 (May 6, 2003), in response to Notice and Request for Comment on Policy Concerning Assessment of Antidumping Duties and Request for Comment, 63 FR 55361 (Oct. 15, 1998).

Notification of Interested Parties

This notice also serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of double antidumping duties.

This notice also serves as a reminder to parties subject to administrative protective orders (“APOs”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: October 5, 2004.
James J. Jochum,
Assistant Secretary for Import Administration.

Appendix -- Issues in Decision Memorandum

Comments and Responses

1. Section 201 Duties

2. Section 201 Duty Billing Adjustments

3. Standard Customs Duty Exemptions

4. Antidumping Duty Exemptions

5. Yield Loss Constant for Duty Drawback

6. Duty Exemptions on Imported Inputs in the Cost of Production

7. Treatment of Non-Dumped Sales

8. Minor Corrections at Verification

[FR Doc. E4-2727 Filed 10-19-04; 8:45 am]

BILLING CODE 3510-DS-S